ENVIRONMENTAL PROTECTION AGENCY

[FRL-7507-9]

Prestige Chemical Company Superfund Site; Notice of Proposed Settlement

AGENCY: Environmental Protection Agency (EPA).

ACTION: Notice of proposed administrative order on consent.

SUMMARY: The United States Environmental Protection Agency is proposing to enter into an administrative order on consent for a removal action pursuant to section 122(g) of the Comprehensive Environmental Response, Compensation, and Liability Act of 1989 (CERCLA), as amended, regarding the Prestige Chemical Company Superfund Site located in Senoia, Coweta County, Georgia, with Ranew's Paint and Body Shop Inc. The settlement is designed to resolve fully this de minimis party's liability at the site through a covenant not to sue under sections 106 and 107 of CERCLA, 42 U.S.C. 9606 and 9607, and contribution protection. EPA will consider public comments on the cost recovery component of the proposed settlement, section VII, until July 7, 2003. EPA may withdraw from or modify the proposed settlement should such comments disclose facts or considerations which indicate that section VII is inappropriate, improper, or inadequate. Copies of the proposed settlement are available from: Ms. Paula V. Batchelor, U.S. EPA, Region 4 (WMD-CPSB), Sam Nunn Atlanta Federal Center, 61 Forsyth Street, SW., Atlanta, Georgia 30303. (404) 562-8887.

Written comments may be submitted to Ms. Batchelor within thirty (30) calendar days of the date of this publication.

Dated: May 16, 2003.
Anita Davis,
Acting Chief, CERCLA Program Services Branch, Waste Management Division.

[FR Doc. 03-14192 Filed 6-4-03; 8:45 am]

BILLING CODE 6560-50-P